DEPARTMENT OF HEALTH AND HUMAN SERVICES

Centers for Medicare & Medicaid Services

[CMS-2431-N2]

Medicaid Program: Zika Health Care Services Program—Round 2

AGENCY: Centers for Medicare & Medicaid Services (CMS), HHS.

ACTION: Notice.

SUMMARY: This notice announces the April 7, 2017 posting of a funding opportunity for Round Two of the Zika Health Care Services Program which provides up to $6.45 million to support prevention activities and treatment services for health conditions related to the Zika virus for entities that meet the eligibility requirements of the Zika Health Care Services Program, but that did not receive an award under the Round One Funding Opportunity. The Round Two Funding Opportunity provides two application due dates, May 8, 2017 and July 10, 2017. Entities eligible to apply for this funding opportunity are states, territories, tribes or tribal organizations, with active or local transmission of the Zika virus, as confirmed by the Centers for Disease Control and Prevention (CDC).

DATES: The project period of performance for the Cooperative Agreement will be 36 months from the date of award.

FOR FURTHER INFORMATION CONTACT: Elizabeth Garbarczyk, 410-786-0426.

SUPPLEMENTARY INFORMATION:

I. Background

The Zika Response and Preparedness Act (Pub. L. 114-223) provides $387,000,000 in funding to prevent, prepare for, and respond to the Zika virus. Of the funds appropriated by Public Law (Pub. L.) 114-223, Congress designated $75 million to support states, territories, tribes, or tribal organizations with active or local transmission cases of the Zika virus, as confirmed by the Centers for Disease Control and Prevention (CDC), to reimburse the costs of health care for health conditions related to the Zika virus not covered by private insurance. No less than $60 million of this funding is for territories with the highest rates of Zika transmission.

The Zika Health Care Services Program funding opportunities solicit single source emergency applications for a cooperative agreement aimed at supporting prevention activities and treatment services for women (including pregnant women), children, and men adversely or potentially impacted by the Zika virus.

On January 18, 2017, CMS issued $66.1 million in awards to eligible entities that applied for Round One of the Zika Health Care Services Program (American Samoa, Puerto Rico, U.S. Virgin Islands, and Florida). The Round One Funding Opportunity sought to issue funds to areas of greatest need, while maintaining additional funds to prevent, detect, and respond to future Zika outbreaks.

II. Provisions of the Notice

In accordance with the Zika Response and Preparedness Act (Pub. L. 114-223), entities eligible to apply for this funding opportunity include states, territories, tribes or tribal organizations with active or local transmission of the Zika virus, as confirmed by the Centers for Disease Control and Prevention (CDC). Recipients who previously received a Notice of Award under Round One of the Zika Health Care Services Program, Funding Opportunity Number CMS-1Q1-17-001, are not eligible to apply. As of the first application due date, May 8, 2017, the CDC reports that Texas is the only new area with laboratory-confirmed active or local transmission of the Zika virus; and therefore, this is the only state currently eligible to receive funding as authorized under the legislation.

This funding opportunity has been structured to ensure a comprehensive response to Zika as quickly as possible. Accordingly, the single-source emergency funding opportunity is solely available to the state health department in Texas, based on its ability to quickly and efficiently expand its existing Zika response efforts and to further determine the most effective use and dissemination of funds in its respective jurisdictions. The health department in Texas is uniquely positioned to meet the goals of the emergency cooperative agreement based on its capacity, partnerships, resources, prior experience, and ability to begin implementing the project immediately. Immediate implementation is critical to successfully addressing this rapidly spreading public health threat. The budget and project period under the specific funding opportunity will be 36 months. The total amount of federal funds available in Round Two, for both the May 8, 2017 and July 10, 2017 due dates, is up to $6.45 million. The Texas Department of State Health Services submitted their application, and was the only entity eligible for an award as of the May 8, 2017 application due date. The proposed award amount is $1,800,000.

The second application due date for the Round Two Funding Opportunity is July 10, 2017. Eligibility for the second Round Two application due date is based on the state, territory, tribe, or tribal organization meeting all of the following criteria:

• Has active or local transmission cases of the Zika virus, as confirmed by the CDC.

• Did not receive an award in Round One.

• Has not received a response to an application submitted by the first application due date (May 8, 2017).

III. Collection of Information Requirements

This notice establishes funding opportunities for health departments in areas with laboratory-confirmed active or local Zika virus transmission. The funding opportunity application process constitutes an information collection request. Specifically, this notice pertains to Round Two for which there is only one eligible respondent (Texas). There were 4 total respondents in Round 1 (American Samoa, Puerto Rico, U.S. Virgin Islands, and Florida). In accordance with the implementing regulations of the Paperwork Reduction Act of 1995 (PRA) at 5 CFR 1320.3(c)(4), we estimate the total number of respondents between Round One and Round Two will not exceed 10 in a 12-month period. Therefore, the associated burden is exempt from the requirements of the PRA (44 U.S.C. 3501 et seq.).

Dated: June 13, 2017.
Seema Verma,
Administrator, Centers for Medicare & Medicaid Services.

[FR Doc. 2017-13784 Filed 6-29-17; 8:45 am]

BILLING CODE 4120-01-P